DEPARTMENT OF HEALTH AND HUMAN SERVICES

Centers for Medicare & Medicaid Services

[Document Identifier: CMS-10143, CMS-10572 and CMS-10564]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by October 13, 2015.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10143 Monthly File of Medicaid/Medicare Dual Eligible Enrollees

CMS-10572 Transparency in Coverage Reporting by Qualified Health Plan Issuers

CMS-10564 Home Health Face-to-Face Encounter Clinical Templates

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Monthly File of Medicaid/Medicare Dual Eligible Enrollees; Use: The monthly data file is provided to CMS by states on dually eligible Medicaid and Medicare beneficiaries, listing the individuals on the Medicaid eligibility file, their Medicare status and other information needed to establish subsidy level, such as income and institutional status. The file is used to count the exact number of individuals who should be included in the phased-down state contribution calculation that month. CMS merges the data with other data files and establishes Part D enrollment for those individuals on the file. The file may be used by CMS partners to obtain accurate counts of duals on a current basis. Form Number: CMS-10143 (OMB Control Number: 0938-0958); Frequency: Monthly; Affected Public: State, Local, or Tribal Governments; Number of Respondents: 51; Total Annual Responses: 612; Total Annual Hours: 6,120. (For policy questions regarding this collection contact Vasanthi Kandasamy at 410-786-0433).

2. Type of Information Collection Request: New collection (Request for a new OMB control number); Title of Information Collection: Transparency in Coverage Reporting by Qualified Health Plan Issuers; Use: Section 1311(e)(3) of the Affordable Care Act requires issuers of Qualified Health Plans (QHPs), to make available and submit transparency in coverage data. This data collection would collect certain information from QHP issuers in Federally-facilitated Exchanges and State-based Exchanges that rely on the federal IT platform (i.e., HealthCare.gov). HHS anticipates that consumers may use this information to inform plan selection.

Although this proposed data collection is limited to certain QHP issuers, HHS intends to phase in implementation for other entities over time. As stated in the final rule Patient Protection and Affordable Care Act; Establishment of Exchanges and Qualified Health Plans; Exchange Standards for Employers (77 FR 18310; March 27, 2012), broader implementation will continue to be addressed in separate rulemaking issued by HHS, and the Departments of Labor and the Treasury (the Departments). For State-based Exchanges not addressed in the current proposal, standards will be proposed later.

Consistent with Public Health Service Act (PHS Act) section 2715A, which largely extends the transparency reporting provisions set forth in section 1311(e)(3) to non-grandfathered group health plans (including large group and self-insured health plans) and health insurance issuers offering group and individual health insurance coverage (non-QHP issuers), the Departments intend to propose other transparency reporting requirements at a later time, through a separate rulemaking conducted by the Departments, for non-QHP issuers and non-grandfathered group health plans. Those proposed reporting requirements may differ from those prescribed in the HHS proposal under section 1311(e)(3), and will take into account differences in markets, reporting requirements already in existence for non-QHPs (including group health plans), and other relevant factors. The Departments also intend to streamline reporting under multiple reporting provisions and reduce unnecessary duplication. The Departments intend to implement any transparency reporting requirements applicable to non-QHP issuers and non-grandfathered group health plans only after notice and comment, and after giving those issuers and plans sufficient time, following the publication of final rules, to come into compliance with those requirements. Form Number: CMS-10572 (OMB control number: 0938-New); Frequency: Annually; Affected Public: Private Sector (Business or other For-profit and Not-for-profit institutions); Number of Respondents: 475; Total Annual Responses: 475; Total Annual Hours: 16,150. (For policy questions regarding this collection contact Valisha Price at 301-492-4343).

3. Type of Information Collection Request: New collection (Request for a new OMB control number); Title of Information Collection: Home Health Face-to-Face Encounter Clinical Templates; Use: The Centers for Medicare & Medicare Services (CMS) is requesting the Office of Management and Budget (OMB) approval of the collection of data required to support the eligibility of Medicare home health services. Home health services are covered under the Hospital Insurance (Part A) and Supplemental Medical Insurance (Part B) benefits of the Medicare program. It consists of part-time, medically necessary skilled care (nursing, physical therapy, occupational therapy, and speech-language therapy) that is ordered by a physician. The CMS has developed a list of clinical elements within a suggested electronic clinical template that would allow electronic health record vendors to create prompts to assist physicians when documenting the HH face-to-face encounter for Medicare purposes. Once completed by the physician, the resulting progress note or clinic note would be part of the medical record. The primary users of these new clinical templates will be physicians and/or allowed non-physician practitioners (NPPs). The templates will help users to capture the necessary information needed to complete the face-to-face encounter documentation. This will help physicians and/or allowed NPPs comply with Medicare policy requirements, thereby reducing the possibility of a home health claim not being paid because of failure to meet Medicare requirements. Form Number: CMS-10564 (OMB control number: 0938-New); Frequency: Occasionally; Affected Public: Private Sector (Business or other For-profit and Not-for-profit institutions); Number of Respondents: 2,926,420; Total Annual Responses: 2,926,420; Total Annual Hours: 1,220,317. (For policy questions regarding this collection contact Kristal Vines at 410-786-0119).

Dated: August 7, 2015.
William N. Parham, III,
Director, Paperwork Reduction Staff, Office of Strategic Operations and Regulatory Affairs.

[FR Doc. 2015-19818 Filed 8-11-15; 8:45 am]

BILLING CODE 4120-01-P